DEPARTMENT OF TRANSPORTATION

Federal Aviation Administration

14 CFR Part 13

[Docket No. FAA-2000-7554; Amendment No. 13-30]

RIN 2120-AF04

Flight Operational Quality Assurance Program

Correction

In rule document 01-27273 beginning on page 55042, in the issue of Wednesday, October 31, 2001, make the following correction:

§ 13.401 [Corrected]

On page 55048, in the third column, § 13.401, paragraph (e), in the third line, “for” should read “or”.

[FR Doc. C1-27273 Filed 5-8-02; 8:45 am]

BILLING CODE 1505-01-D